DEPARTMENT OF THE INTERIOR

Fish and Wildlife Service

Supplements to the Grizzly Bear Recovery Plan

AGENCY: Fish and Wildlife Service, Interior.

ACTION: Notice of availability.

SUMMARY: We, the Fish and Wildlife Service (Service), announce the availability of two supplements to the Grizzly Bear (Ursus arctos horribilis) Recovery Plan. The supplements, appended to the Grizzly Bear Recovery Plan, present revised methods to estimate population size and sustainable mortality limits for the Yellowstone grizzly bear population, and establish habitat-based recovery criteria for the Yellowstone grizzly bear population.

ADDRESSES: You may obtain a copy of the recovery plan, including these supplements, by any of the following means:

1. World Wide Web: http://endangered.fws.gov/recovery/index.html#plans or http://mountain-prairie.fws.gov/species/mammals/grizzly/yellowstone.htm; or

2. U.S. mail or in-person pickup: By appointment, during normal business hours, at: U.S. Fish and Wildlife Service, University Hall, Room 309, University of Montana, Missoula, MT 59812. Call (406) 243-4903 to make arrangements.

FOR FURTHER INFORMATION CONTACT: Dr. Christopher Servheen, Grizzly Bear Recovery Coordinator (see ADDRESSES above), (406) 243-4903.

SUPPLEMENTARY INFORMATION:

Background

Restoring an endangered or threatened animal or plant to the point where it is again a secure member of its ecosystem is a primary goal of our endangered species program. Recovery plans help guide recovery efforts by describing actions we consider necessary for the conservation of the species, establishing criteria for downlisting and delisting listed species, and estimating time and cost for implementing the measures needed for recovery measures. Under the provisions of the Endangered Species Act of 1973, as amended (Act) (16 U.S.C. 1531 et seq.), we approved the first Grizzly Bear Recovery Plan on January 29, 1982 (U.S. Fish and Wildlife Service 1982). In 1993, we approved a revision to the Grizzly Bear Recovery Plan (U.S. Fish and Wildlife Service 1993), which included additional tasks and new information that increased the focus and effectiveness of recovery efforts. Supplements to the Recovery Plan were approved in 1997 and 1998 (U.S. Fish and Wildlife Service 1997, 1998).

In 1994, The Fund for Animals, Inc., and 42 other organizations and individuals filed suit over the adequacy of the 1993 Recovery Plan. In 1995, the U.S. District Court for the District of Columbia issued an order remanding for further study and clarification four issues relevant to the Yellowstone grizzly bear population including the methods we use to measure the status of bear populations (Fund for Animals v. Babbitt, 903 F. Supp. 96 (D. D.C. 1995)). Following appeals by both parties, we entered into a subsequent settlement agreeing to establish habitat-based recovery criteria prior to any delisting action (Fund for Animals v. Babbitt, 967 F. Supp. 6 (D. D.C. 1997)).

Regarding the methods used to measure the status of bear populations, beginning in 2000, the Interagency Grizzly Bear Study Team, which the U.S. Geological Survey leads in cooperation with various University specialists, began a comprehensive evaluation of the demographic data and the methodology used to estimate population size and establish the sustainable level of mortality for grizzly bears in the Greater Yellowstone Area. The Grizzly Bear Recovery Plan Task Y11 also recommended further consideration of population objectives, stating that the team should work to “determine population conditions at which the species is viable and self sustaining” and “reevaluate and refine population criteria as new information becomes available” for the Yellowstone population of grizzly bears (U.S. Fish and Wildlife Service 1993, p. 44). After evaluating current methods, scientific literature, and alternative methods, the Interagency Grizzly Bear Study Team recommended the most valid technique based on the best available science (Interagency Grizzly Bear Study Team 2005, 2007) and drafted the Reassessing Methods to Estimate Population Size and Sustainable Mortality Limits for the Yellowstone Grizzly Bear document (Reassessing Methods document). As per section 4(f) of the Act (16 U.S.C. 1533(f)), we released a draft version of the Reassessing Methods document for public comment on November 22, 2005 (70 FR 70632). Considering all comments received, the Study Team produced a Supplement to the Reassessing Methods document (Interagency Grizzly Bear Study Team 2006) and finalized this document. We have attached relevant portions of these reports to the Grizzly Bear Recovery Plan (U.S. Fish and Wildlife Service 1993) in a supplement.

Regarding the settlement agreeing to establish habitat-based recovery criteria prior to any delisting action, on June 17, 1997, we held a public workshop in Bozeman, Montana, to develop and refine habitat-based recovery criteria for the Yellowstone grizzly bear population. A Federal Register notice notified the public of this workshop and provided interested parties an opportunity to participate and submit comments (62 FR 19777, April 23, 1997). Grizzly Bear Recovery Plan Task Y423 also recommended further consideration of this issue, stating that we should work to “establish a threshold of minimal habitat values to be maintained within each Cumulative Effects Analysis Unit in order to ensure that sufficient habitat is available to support a viable population” (U.S. Fish and Wildlife Service 1993, p. 55). After considering 1,167 written comments, we developed biologically-based habitat criteria with the goal of maintaining or improving habitat conditions at 1998 levels. As per section 4(f) of the Act (16 U.S.C. 1533(f)), we published these draft criteria in the Federal Register for review and comment on July 16, 1999 (64 FR 38464). Considering all comments we received, we finalized the Habitat-Based Recovery Criteria. We have attached the established Habitat-Based Recovery Criteria to the Grizzly Bear Recovery Plan (U.S. Fish and Wildlife Service 1993) in a supplement.

References Cited

To obtain a complete list of all references cited herein, contact the Grizzly Bear Recovery Coordinator (see ADDRESSES above).

Authority

The authority for this Notice is section 4(f) of the Endangered Species Act, 16 U.S.C. 1533(f).

Dated: January 10, 2007.
James J. Slack,
Deputy Regional Director, Denver, Colorado.

[FR Doc. E7-4568 Filed 3-12-07; 8:45 am]

BILLING CODE 4310-55-P